DEPARTMENT OF DEFENSE

Office of the Secretary

Federal Advisory Committee; Defense Intelligence Agency Advisory Board; Closed Meeting

AGENCY: Defense Intelligence Agency, DoD.

ACTION: Meeting notice.

SUMMARY: Under the provisions of the Federal Advisory Committee Act of 1972 (5 U.S.C., Appendix, as amended), the Government in the Sunshine Act of 1976 (5 U.S.C. 552b, as amended), and 41 CFR 102-3.150 the Department of Defense announces that Defense Intelligence Agency Advisory Board, and its subcommittees, will meet on June 15 and 16, 2010. The meeting is closed to the public.

DATES: The meeting will be held on June 15, 2010 (from 1:30 p.m. to 5:15 p.m.) and on June 16, 2010 (from 9 a.m. to 4:30 p.m.).

ADDRESSES: The meeting will be held at Bolling Air Force Base.

FOR FURTHER INFORMATION CONTACT: Mr. Mark Harrison, (703) 647-5102, Alternate Designated Federal Official, DIA Office for Congressional and Public Affairs, Pentagon, 1A874, Washington, DC 20340.

Committee's Designated Federal Official: Mr. William Caniano, (703) 614-4774, DIA Office for Congressional and Public Affairs, Pentagon, 1A874 Washington, DC 20340. William.Caniano@dia.mil.

SUPPLEMENTARY INFORMATION:

Purpose of the Meeting

For the Advisory Board to review and discuss DIA operations and capabilities in support of current operations.

Agenda

June 15, 2010

Time | Topic | Presenter
1:30 p.m. | Convene Full Advisory Board for Administrative Issues | Mr. William Caniano, Designated Federal Official.
3 p.m. | Review and Discussion | Ms. Mary Margaret Graham, Chairman.
3:30 p.m. | Break |
3:45 p.m. | Subcommittee Business |
5:15 p.m. | Adjourn |

June 16, 2010

Time | Topic | Presenter
9 a.m. | Subcommittees Reconvene |
12 p.m. | Lunch |
1 p.m. | Full Advisory Board Meeting for Review and Discussion | Ms. Graham and LTG Ronald L. Burgess, Director, DIA.
3 p.m. | Break |
3:15 p.m. | Deliberations and Guidance | LTG Ronald L. Burgess.
4:30 p.m. | Adjourn |

Pursuant to 5 U.S.C. 552b, as amended and 41 CFR 102-3.155, the Defense Intelligence Agency has determined that all meetings shall be closed to the public. The Director, DIA, in consultation with his General Counsel, has determined in writing that the public interest requires that all sessions of the Board's meetings will be closed to the public because they will be concerned with classified information and matters covered by section 5 U.S.C. 552b(c)(1).

Written Statements

Pursuant to 41 CFR 102-3.105(j) and 102-3.140, and section 10(a)(3) of the Federal Advisory Board Committee Act of 1972, the public or interested organizations may submit written statements at any time to the DIA Advisory Board regarding its missions and functions. All written statements shall be submitted to the Designated Federal Official for the DIA Advisory Board. He will ensure that written statements are provided to the membership for their consideration. Written statements may also be submitted in response to the stated agenda of planned committee meetings. Statements submitted in response to this notice must be received by the Designated Federal Official at least five calendar days prior to the meeting which is the subject of this notice. Written statements received after that date may not be provided or considered by the Board until its next meeting. All submissions provided before that date will be presented to the Board members before the meeting that is subject of this notice. Contact information for the Designated Federal Official is listed under FOR FURTHER INFORMATION CONTACT.

Dated: May 3, 2010.
Mitchell S. Bryman,
Alternate OSD Federal Register Liaison Officer, Department of Defense.

[FR Doc. 2010-10669 Filed 5-5-10; 8:45 am]

BILLING CODE 5001-06-P